DEPARTMENT OF HEALTH AND HUMAN SERVICES

Administration for Children and Families

Office of Community Services; Job Opportunities for Low-Income Individuals (JOLI) Program

Announcement Type: Grant—Initial.

Funding Opportunity Number: HHS-2005-ACF-OCS-EO-0054.

CFDA Number: 93.593.

Due Date for Applications: Application is due August 19, 2005.

Executive Summary: The Job Opportunities for Low-Income Individuals (JOLI) Program is authorized under Section 505 of the Family Support Act of 1988, Public Law 100-485, as amended by Section 112 of the Personal Responsibility and Work Opportunity Reconciliation Act of 1996, Public Law 104-193, as amended. The Act authorizes the Secretary of the U.S. Department of Health and Human Services (HHS) to enter into agreements with non-profit organizations (including faith-based organizations and community development corporations) for the purpose of conducting projects designed to create employment opportunities for certain low-income individuals (42 U.S.C. 9926).

I. Funding Opportunity Description

Priority Area 1. Description

The Job Opportunities for Low-Income Individuals (JOLI) Program is authorized under Section 505 of the Family Support Act of 1988, Public Law 100-485, as amended by Section 112 of the Personal Responsibility and Work Opportunity Reconciliation Act of 1996 Public Law, 104-193, as amended. The Act authorizes the Secretary of the U.S. Department of Health and Human Services (HHS) to enter into agreements with non-profit organizations (including faith-based organizations and community development corporations) for the purpose of conducting projects designed to create employment opportunities for certain low-income individuals (42 U.S.C. 9926).

A. Program Purpose, Scope, and Focus

The purpose of the JOLI program is to provide technical and financial assistance to private employers in the community to assist them in creating employment and business opportunities for individuals receiving Temporary Assistance for Needy Families (TANF) and for other low-income individuals. Projects focus on one of three program strategies: self-employment/ micro-enterprise, new business ventures, and business expansion. Priority will be given to applicants proposing to serve those areas containing the highest percentage of individuals receiving TANF under a State program, which is funded under Part A of Title IV of the Social Security Act and individuals whose income level does not exceed 100 percent of the official poverty line. Annual revisions of these poverty guidelines are normally published in the Federal Register in February or early March. Grantees will be required to apply the most recent guidelines throughout the project period. These revised guidelines also may be obtained at public libraries; Congressional offices; by writing the Superintendent of Documents, U.S. Government Printing Office, Washington, DC, 20402; or by accessing the following Web site: (http://aspe.os.dhhs.gov/poverty/index.shtml).

While projected employment in future years may be included in the application, it is essential that the focus of the project concentrate on the creation of new full-time, permanent jobs and/or new business development opportunities for TANF recipients and other low-income individuals during the grant project period. The Office of Community Services (OCS) is particularly interested in receiving innovative applications that grow out of the experience and creativity of applicants and the needs of their clientele and communities and that seek to integrate projects into a larger effort of broad community revitalization.

Special consideration will be given to applicants located in areas characterized by conditions of extreme poverty and other indicators of socio-economic distress. Examples of such distress may include: a poverty rate of at least 20 percent, designation as an Empowerment Zone/Enterprise Community (EZ/EC), high levels of violence, gang activity or drug use. Please see Section V.1 Evaluation Criteria for the related criterion that will be used in the evaluation of applications.

Due to the limited amount of funds available under this program, only a single application from any one eligible applicant will be funded by OCS from FY 2005 JOLI funds pursuant to this announcement. Each application must consist of one project only. Please note however that this factor will not be used as a responsiveness criterion in the review of applications.

OCS will not provide funding to a previously funded grantee to carry out the same project in the same target area. Previously funded grantees must apply for a different target area to be considered for funding under this announcement.

B. Definitions

The following definitions apply:

Budget and Project Periods—Applications for JOLI projects must have a 36-month project period with a 36-month budget period.

Community-Level Data—Key information to be collected by each grantee that will allow for a national-level analysis of common features of JOLI projects. This consists of data on the population of the target area, including the percentage of TANF recipients and others on public assistance, and the percentage whose income falls below the poverty line; the unemployment rate; the number of new business starts and business closings; and a description of the major employers and average wage rates and employment opportunities with those employers.

Community Development Corporation—A private, non-profit entity, governed by a board of directors consisting of residents of the community and business and civic leaders, that has as a principal purpose the planning, developing, or managing low-income housing or community development projects.

Hypothesis—An assumption made in order to test its validity. It should assert a cause-and-effect relationship between a program intervention and its expected result. Both the intervention and result must be measured in order to confirm the hypothesis. For example, the following is a hypothesis: “Eighty hours of classroom training in small business planning will be sufficient for participants to prepare a successful loan application.” In this example, data would be obtained on the number of hours of training actually received by participants (the intervention), and the quality of loan applications (the result), to determine the validity of the hypothesis (that eighty hours of training is sufficient to produce the result).

Intervention—Any planned activity within a project that is intended to produce changes in the target population and/or the environment and that can be formally evaluated. For example, assistance in the preparation of a business plan and loan package is planned intervention.

Job Creation—To bring about, by activities and services funded under this program, new jobs, that is, jobs that were not in existence before the start of the project. These activities can include self-employment/micro-enterprise training, the development of new business ventures or the expansion of existing businesses.

Non-Profit Organization—Any organization (including a faith-based organization or a community development corporation) exempt from taxation by reason of paragraph (3) or (4) of section 501(c) of the Internal Revenue Code of 1986.

Outcome Evaluation—An assessment of project results as measured by collected data which define the net effects of the interventions applied in the project. An outcome evaluation will produce and interpret findings related to whether the interventions produced desirable changes and their potential for replicability. It should answer the question: Did this project work?

Private Employers—Third party non-profit organizations or third party for-profit businesses operating or proposing to operate in the same community as the applicant and which are proposed or potential employers of project participants.

Process Evaluation—The ongoing examination of the implementation of a program. It focuses on the effectiveness and efficiency of the program's activities and interventions (for example, methods of recruiting participants, quality of training activities, or usefulness of follow-up procedures). It should answer questions such as: Who is receiving what services and are the services being delivered as planned? It is also known as formative evaluation, because it gathers information that can be used as a management tool to improve the way a program operates while the program is in progress. It should also identify problems that occurred and how they were dealt with and recommend improved means of future implementation. It should answer the question: “How was the program carried out?” In concert with the outcome evaluation, it should also help explain, “Why did this program work/not work?” and, “What worked and what did not?”

Program Participant/Beneficiary—An individual eligible to receive TANF under Title I of the Personal Responsibility and Work Opportunity Reconciliation Act of 1996 (Part A of Title IV of the Social Security Act) and any other individual whose income level does not exceed 100 percent of the official poverty line as found in the most recent revision of the Poverty Income Guidelines published by the Department of Health and Human Services.

Self-Sufficiency—A condition where an individual or family, by reason of employment, does not need and is not eligible for public assistance.

Third Party—Any individual, organization, or business entity that is not the direct recipient of grant funds.

Third Party Agreement—A written agreement entered into by the grantee and an organization, individual or business entity (including a wholly owned subsidiary), by which the grantee makes an equity investment or a loan in support of grant purposes.

Third Party In-Kind Contributions—The value of non-cash contributions provided by non-Federal third parties which may be in the form of real property, equipment, supplies and/or other expendable property, and the value of goods and services directly benefiting and specifically identifiable to the project or program.

C. Description of Three Program Strategies

The purpose of the JOLI program is to provide technical and financial assistance to private employers in the community to assist them in creating employment and business opportunities for individuals receiving Temporary Assistance for Needy Families (TANF) and other low-income individuals. In order to create these employment and other opportunities, funded projects focus on one of the following three program strategies: self-employment/ micro-enterprise, new business ventures, and businesses expansion. Applicants must state clearly both in the abstract and at the beginning of the project narrative which one of these three program strategies they will be using. While OCS will accept applications that propose projects containing more than one of these program strategies, OCS strongly encourages applicants to focus on only one. This factor will not be used as a responsiveness criterion in the review of applications.

Program Strategy 1: Business Expansion

Applicants applying under Strategy 1 must show that the proposed project will provide technical and/or financial assistance to businesses already in existence to allow the businesses to expand by helping them to obtain better marketing services, contracts, access to additional money to help the business grow, etc., resulting in the creation of new jobs.

Program Strategy 2: Self-Employment/Micro-Enterprise Projects

Applicants applying under Strategy 2 must show that the proposed project will create self-employment/micro-enterprise opportunities for eligible participants.

Self-employment is the creation of a business that is designed to employ a single individual such as home-based day care, graphic design, medical billings, sewing and secretarial service, etc. Micro-enterprise is the creation of a business that is designed to hire from one to four persons, i.e., a cleaning business that will create more than one job.

For this Strategy, OCS does not consider a job to have been created until contracts and/or subcontracts have been committed at the end of training for each of these self-employment/micro-enterprise businesses that ultimately may be construed as jobs. All applications under this strategy must address the following items:

• The types of self-employment and/or micro-enterprise businesses that may thrive in the target area

• Need for such businesses in those communities

• Applicant's ability to help secure commitments of contracts/subcontracts at the end of training for each of those self-employment/micro-enterprise businesses

Program Strategy 3: New Business Ventures

Applicants applying under this strategy must show the development of a new business that will train and employ 40-100 TANF and/or low-income persons to work within that business.

II. Award Information

Funding Instrument Type: Grant.

Anticipated Total Priority Area Funding:$5,000,000.

Anticipated Number of Awards: 10 to 12.

Ceiling on Amount of Individual Awards: $500,000 per project period.

Floor on Amount of Individual Awards: None.

Average Projected Award Amount: $450,000 per project period.

Length of Project Periods: 36-month project period with a 36-month budget period.

The FY 2006 President's Budget does not include or propose funding for the JOLI program.

III. Eligibility Information

1. Eligible Applicants:

• Non-profits having a 501(c)(3) status with the IRS, other than institutions of higher education

• Others (See Additional Information on Eligibility below.)

Additional Information on Eligibility: Non-profits having a 501(c)(4) status with the IRS are also eligible to apply for this program.

Faith-based organizations are eligible to apply for this program.

2. Cost Sharing/Matching: None.

3. Other: All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.grants.gov/). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com/.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors: Applications that exceed the ceiling amount will be considered non-responsive and will not be considered for funding under this announcement.

Any application that fails to satisfy the deadline requirements referenced in Section IV.3 will be considered non-responsive and will not be considered for funding under this announcement.

IV. Application and Submission Information

1. Address to Request Application Package: Administration for Children and Families, OCS Operations Center, 1515 Wilson Blvd., Suite 100, Arlington, VA 22209, Phone: 1-800-281-9519, E-mail: ocsgrants@acf.hhs.gov.

2. Content and Form of Application Submission:

A. Application Content

(1) Each application must include the following components:

(a) Table of Contents.

(b) Abstract of the Proposed Project—Very brief, not to exceed 250 words. Please see Section V for additional information for preparing the project abstract.

(c) Completed Standard Forms—Standard forms 424 and 424A must be completed and signed where appropriate by an official of the organization applying for the grant who has authority to obligate the organization legally. Information on other forms that must be submitted with the application is included below under the heading, “Standard Forms and Certifications.”

(d) Narrative Budget Justification—Please see Section V for additional information for preparing the narrative budget justification.

(e) Project Narrative—Please see Section V for instructions for preparing the project narrative.

(f) Documentation of 501(c)(3) or (4) status—Please see Section III for what will be acceptable as proof of non-profit status.

(g) Cooperative Partnership Agreement with the Designated Agency Responsible for the TANF Program—A formal, cooperative relationship between the applicant and the designated State or local agency responsible for administering the TANF program (as provided for under Part A of Title IV of the Social Security Act) in the area served by the project is a requirement for funding (see list of the State Human Services Administrators administering TANF). The application must include a signed, written agreement between the applicant and the designated State or local agency responsible for administering the TANF program. The agreement must describe the cooperative relationship, including specific activities and/or actions each of these entities propose to carry out over the course of the grant period in support of the project. The agreement, at a minimum, must cover the specific services and activities that will be provided to the target population.

Applications submitted without an explicit agreement with the TANF agency in the area served by the project will receive fewer points.

(h) Mobilization of Resources—There is no match requirement for the Job Opportunities for Low-Income Individuals (JOLI) Program.

(i) Third Party Agreements—Any applicant submitting an application for funding who proposes to use some or all of the requested OCS funds to enter into a third party agreement in order to make an equity investment (such as the purchase of stock) or a loan to an organization or business entity (including a wholly-owned subsidiary), must include in the application a copy of the signed third party agreement for approval by OCS. Note that partners involved in the proposed project should be responsible for substantive project activities and services. Applicants should note that partnership relationships are not created via service delivery contracts.

All third party agreements must include written commitments as follows:

From the third party (as appropriate):

• Jobs to be created as a result of the infusion of grant funds will be filled by low-income individuals;

• The grantee will have the right to screen applicants for jobs to be filled by low-income individuals and to verify their eligibility;

• If the grantee's equity investment equals 25 percent or more of the business' assets, the grantee will have representation on the board of directors;

• Reports will be made to the grantee regarding the use of grant funds no less than on a quarterly basis;

• A procedure will be developed to assure that there are no duplicate counts of jobs created; and

• Detailed information should be provided on how the grant funds will be used by the third party.

In addition to the above, any third party agreement covering an equity investment must also contain the following information:

• The type of equity transaction (e.g., stock purchase);

• Purpose(s) for which the equity investment is being made;

• Cost per share and basis for determining cost per share;

• Number of shares being purchased;

• Percentage of ownership of the business; and,

• Number of seats on the board, if applicable.

In addition to the above, any third party agreement covering a loan transaction must also contain the following information:

• Purpose(s) for which the loan is being made;

• Rates of interest and other fees;

• Terms of loan;

• Repayment schedules;

• Collateral security; and

• Default and collection procedures.

All third party agreements must also include detailed information on how the grantee will provide support and technical assistance to the third party in areas of recruitment and retention of low-income individuals.

All third party agreements should be accompanied by:

• A signed statement from a Certified or Licensed Public Accountant as to the sufficiency of the third party's financial management system in accordance with 45 CFR part 74, to protect adequately any federal funds awarded under the application;

• Financial statements for the third party organization for the prior three years. (If not available because the organization is a newly-formed entity, include a statement to this effect); and

• Specifications as to how the grantee will provide oversight of the third party for the life of the agreement. Also, the agreement will specify that the third party will maintain documentation related to the expenditure of grant funds loaned to or invested in the third party and grant objectives as specified in the agreement, and will provide the grantee and HHS access to that documentation.

(2) Property and National Historic Preservation Act

If the applicant is proposing a project that will affect a property listed in, or is eligible for inclusion in, the National Register of Historic Places, it must identify this property in the narrative and explain how it has complied with the provisions of section 106 of the National Historic Preservation Act of 1966 as amended. If there is any question as to whether the property is listed in, or is eligible for inclusion in, the National Register of Historic Places, the applicant should consult with the State Historic Preservation Officer. (See SF-424B) Failure to comply with the cited Act will result in the application being ineligible for funding consideration.

(3) Creation of Jobs and Employment Opportunities

OCS is soliciting JOLI applications that propose the creation of jobs through the expansion of existing businesses, the development of new businesses, or the creation of employment opportunities through self-employment/micro-enterprise development. Proposed projects must show that the jobs and/or business/self employment opportunities to be created under this program will contribute to the achievement of self-sufficiency among the target population. The employment opportunities should provide hourly wages that exceed the minimum wage and also provide benefits such as health insurance, childcare, and career development opportunities.

(4) Support For Non-Custodial Parents

The Office of Community Services (OCS) and the Office of Child Support Enforcement (OCSE), both located in ACF, signed a Memorandum of Understanding (MOU) to foster and enhance partnerships between OCS grantees and local Child Support Enforcement (CSE) agencies. (See the list of CSE State Offices that can identify local CSE agencies.) In the words of the MOU:

“The purpose of these partnerships will be to develop and implement innovative strategies in States and local communities to increase the capability of low-income parents and families to fulfill their parental responsibilities. Too many low-income parents are without jobs or resources needed to support their children. A particular focus of these partnerships will be to assist low-income, non-custodial parents of children receiving TANF to achieve a degree of self-sufficiency that will enable them to provide support that will free their families of the need for such assistance.”

Accordingly, a rating factor and a review criterion have been included in this Program Announcement that will award two points to applicants who have entered into partnership agreements with their local CSE agency to provide for referrals to their project in accordance with provisions of the OCS-OCSE MOU (See Element II, Sub-Element II(c)).

Information on the location of the local CSE Agency in your state can be found at http://www.acf.dhhs.gov/programs/cse/extinf.htm#exta.

(5) Technical and Financial Assistance to Employers and Individuals

Technical assistance should be specifically addressed to the needs of the private employer in creating new jobs to be filled by eligible individuals and/or to the individuals themselves in areas such as job-readiness, literacy, and other basic skills training, job preparation, self-esteem building, etc. Financial assistance may be provided to the private employer as well as to the individual.

If the technical and/or financial assistance is to be provided to pre-identified businesses that will be expanded or franchised, written commitments from the businesses to create the planned jobs must be included with the application.

(6) Applicant Experience and Cost-per-Job

In the review process, favorable consideration will be given to applicants with a demonstrated record of achievement in promoting job and enterprise opportunities for low-income people.

The Office of Community Services will not fund projects where the cost-per-job in JOLI funds exceeds $10,000. Favorable consideration will be given to those applicants who show the lowest cost-per-job created for low-income individuals.

(7) Loan Funds

The creation of a revolving loan fund with funds received under this program is an allowable activity. Loans made to eligible beneficiaries for business development activities must be at or below market rate. Interest accrued on revolving loan funds must be used to continue or expand the activities of the approved project.

B. Application Format

Submit application materials on white 8 x 11 inch paper only. Do not use colored, oversized or folded materials.

Do not include organizational brochures or other promotional materials, slides, films, clips, etc.

The application must be double-spaced, and the font size must be no smaller than Times New Roman 12-point. The margins must be at least one inch on all sides.

Number all application pages sequentially throughout the package, beginning with the abstract of the proposed project as page number one.

C. Number of Copies

Each application should include one signed original and two additional copies.

D. Page Limitation

The application package including sections for the Table of Contents, Project Abstract, Project and Budget Narratives and Business Plan must not exceed 60 pages. The page limitation does not include the following attachments and appendices: Standard Forms or Assurances, Certifications, Disclosures and appendices. The page limitation also does not apply to any supplemental documents as required in this announcement.

You may submit your application to us in either electronic or paper format. To submit an application electronically, please use the http://www.Grants.gov/Apply site. If you use Grants.gov, you will be able to download a copy of the application package, complete it off-line, and then upload and submit the application via the Grants.gov site. ACF will not accept grant applications via email or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.grants.gov/.

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications: The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with this form. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1 for instructions on preparing the full project description.

3. Submission Dates and Times: Due Date for Applications: Application is due August 19, 2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgment for application packages will not be provided to applicants who submit their package via mail, courier services, or by hand delivery. Applicants will receive an electronic acknowledgment for applications that are submitted via http://www.grants.gov/.

Checklist: You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 | See http://www.acf.hhs.gov/programs/ofs/forms.htm | By date of award.
Table of Contents | See Section IV.2 | Found in Section IV.2 | By application due date.
SF424A | See Section IV.2 | See http://www.acf.hhs.gov/programs/ofs/forms.htm | By application due date.
Sources and Use of Funds Statement | See Section V.1. | Found in Section V.1 Evaluation Criteria, Budget and Budget Justification | By date of award.
Other: 3rd Party Agreements | See Section IV.2 | Found in Section IV.2 | By application due date.
SF424B | See Section IV.2 | See http://www.acf.hhs.gov/programs/ofs/forms.htm | By application due date.
Proof of Non-profit Status | See Section III.3 | Found in Section III.3 | By Time of Award.

Additional Forms: Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Required form or format | When to submit
Survey for Private, Non-Profit Grant Applicants | See form | Found in http://www.acf.hhs.gov/programs/ofs/forms.htm | By application due date.

4. Intergovernmental Review:

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a.

Under 45 CFR 100.8(a)(2) a SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

5. Funding Restrictions: Grant awards will not allow reimbursement of pre-award costs.

The use of funds for new construction, major renovation, or the purchase of real property is prohibited.

OCS will not fund any project where the role of the applicant is primarily to serve as a conduit for funds to organizations other than the applicant. The applicant must have a substantive role in the implementation of the project for which funding is requested. This prohibition does not bar the making of sub-grants or sub-contracting for specific services or activities needed to conduct the project.

OCS will not provide funding to a previously funded grantee to carry out the same project in the same target area. Previously funded grantees must apply for a different target area to be considered for funding under this announcement.

6. Other Submission Requirements: Submission by Mail: An applicant must provide an original application with all attachments, signed by an authorized representative and two copies. Please see Section IV.3 for an explanation of due dates. Applications should be mailed to: Administration for Children and Families, OCS Operations Center, 1515 Wilson Blvd., Suite 100, Arlington, VA 22209.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Administration for Children and Families, OCS Operations Center, 1515 Wilson Blvd., Suite 100, Arlington, VA 22209.

Electronic Submission: Please see Section IV.2 for guidelines and requirements when submitting applications electronically via http://www.grants.gov/.

V. Application Review Information

The Paperwork Reduction Act of 1995 (Pub. L. 104-13)

Public reporting burden for this collection of information is estimated to average 35 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria: The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

For example, describe the population to be served by the program and the number of new jobs that will be targeted to the target population. Explain how the project will reach the targeted population, how it will benefit participants including how it will support individuals to become more economically self-sufficient.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Geographic Location

Describe the precise location of the project and boundaries of the area to be served by the proposed project. Maps or other graphic aids may be attached.

Additional Information

Following are requests for additional information that need to be included in the application:

Staff and Position Data

Provide a biographical sketch and job description for each key person appointed. Job descriptions for each vacant key position should be included as well. As new key staff is appointed, biographical sketches will also be required.

Business Plan

When Federal grant funds will be used to make an equity investment, provide a business plan. The business plan shall include an executive summary; a description of the business; a description of the industry, its current status and prospects; a description of the products and services to be created and/or sold including any features that may give products and services an advantage over the competition; market research and a marketing plan; design and development plans; operations plan; a description of the management team; overall schedule; projected job creation; financial plan; a discussion of the critical risks and assumptions; and anticipated community benefits. For a full description of what is required in the business plan, please see Section V, Evaluation Criteria, Sub-Element I(D).

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: a) a reference to the applicant organization's listing in the Internal Revenue Service's (IRS) most recent list of tax-exempt organizations described in the IRS Code; or b) a copy of a currently valid IRS tax exemption certificate.

Dissemination Plan

Provide a plan for distributing reports and other project outputs to colleagues and the public. Applicants must provide a description of the kind, volume and timing of distribution.

Third-Party Agreements

Provide written and signed agreements between grantees and subgrantees or subcontractors or other cooperating entities. These agreements must detail scope of work to be performed, work schedules, remuneration, and other terms and conditions that structure or define the relationship.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Non-Federal Resources

Description: Amounts of non-Federal resources that will be used to support the project as identified in Block 15 of the SF-424.

Justification: The firm commitment of these resources must be documented and submitted with the application so the applicant is given credit in the review process. A detailed budget must be prepared for each funding source.

Evaluation Criteria: The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach—35 Points

Element I: Project Theory, Design and Plan

The extent to which the applicant can show why and how the project, as proposed, is expected to lead to the creation of new employment opportunities for low-income individuals, which can lead to significant improvements in individual and family self-sufficiency.

The extent to which the applicant clearly demonstrates the cause-effect relationship between what the applicant plans to do and the results it expects to achieve. The extent to which applicants design and present their project in terms of a conceptual cause-effect framework (i.e., as illustrated in the following paragraphs, which suggest a way to present a project so as to show the logic of the cause-effect relations between project activities and project results). Note that applicants are not required to use the exact language described.

Sub-Element (A): Description of Target Population, Analysis of Need, and Project Assumptions (10 Points)

The extent to which the application includes a description of the needs and problems of the population to be served that are to be addressed by the project; the current services available to that population and where and how they fail to meet their needs; why the proposed services or interventions are appropriate and will meet those needs; and the impact the proposed interventions will have on the project participants. (4 Points)

The extent to which the applicant identifies the precise target population to be served, the geographic area to be impacted, the percentage of low-income individuals and TANF recipients within the geographic area, as well as the unemployment rate and other data relevant to the project design. (2 Points)

The extent to which the application includes an analysis of the identified personal barriers to employment, job retention and greater self-sufficiency faced by the target population. (These might include such problems as illiteracy, substance abuse, family violence, lack of skills training, health or medical problems, need for child care, lack of suitable clothing or equipment or poor self-image.) (2 Points)

The extent to which the application includes an analysis of the identified community systemic barriers that the project will seek to overcome. These might include lack of jobs (high unemployment rate); lack of public transportation; lack of markets; unavailability of financing, insurance or bonding; inadequate social services (employment service, child care, job training); high incidence of crime; inadequate health care; or environmental hazards (such as toxic dumpsites or leaking underground tanks). The extent to which the application addresses the personal and family services and support that might be needed by project participants after they are on the job which will enhance job retention and advancement. If the jobs to be created by the proposed project are themselves designed to fill one or more of the needs, or remove one of more of the barriers so identified, the extent to which the application highlights such issues in the discussion, e.g., jobs in child care, health care, or transportation. (2 Points)

Sub-Element (B): Project Strategy and Design—Interventions, Outcomes, and Goals (10 Points)

The extent to which the application describes the proposed project activities, or interventions, and explains how they are expected to result in outcomes that will meet the needs of the program participants and assist them in overcoming the identified personal and systemic barriers to employment, job retention, and self-sufficiency (i.e., what the project staff will do (interventions) with the resources provided to the project and how this will assist in creating and sustaining employment and business opportunities for program participants in the face of the needs and problems that have been identified). (4 Points)

The extent to which the applicant describes the major activities, or interventions, which are to be carried out in addressing the needs and problems identified in Sub-Element I(A) as well as the immediate changes or outcomes that are expected to result (e.g., a job readiness training program might be expected to result in clients having increased knowledge of how to apply for a job, improved grooming for job interviews, and improved job interview skills; or business training and training in bookkeeping and accounting might be expected to result in project participants making an informed decision about whether they are suited for entrepreneurship). (2 Points)

The extent to which the applicant describes the intermediate outcomes that result from these immediate changes and expresses those outcomes in terms of measurable changes in knowledge, attitudes, behavior, or status/condition (e.g., the immediate changes achieved by a job readiness program, coupled with technical assistance to an employer in the expansion of a business, could be expected to lead to intermediate outcomes of creation of new job openings and in the participant applying for a job with the company. The acquisition of business skills, coupled with the establishment of a loan fund, could be expected to result in the actual decision by the participant to go into a particular business venture or seek the alternative track of pursuing job readiness and training). (2 Points)

The extent to which the application describes how the achievement of these intermediate outcomes will be expected to lead to the attainment of the project goals depending on the project design: employment in newly created jobs, successful business ventures, or employment in an expanded business. (2 Points)

Sub-Element (C): Business Plan (15 Points)

The extent to which the application includes a business plan containing the following elements: (1) An executive summary (limit to 2 pages) that is clear and descriptive; (2) a description of the industry, current status, and prospects; (3) a description of the products and services, including detailed descriptions of any products or services to be sold, the proprietary position of any of the products (e.g., patents, copyright, trade secrets, etc.), and any features of the products or services that may give them an advantage over the competition; (4) market research that assures that the business has a substantial market to develop and achieve sales in the face of competition and that also describes the customer base by market segment, the market size and trends, an assessment of the strengths and weaknesses of the competition in the current market, and the estimated market share and sales; (5) a marketing plan that details the products, pricing, distribution, and promotion strategies (i.e., what is to be done, how it will be done, and who will do it) that will be used to achieve the estimated market share and sales projections; (6) design and development plans for new products or services, if applicable, including items such as development status and tasks, difficulties and risks, product improvement, and new products and costs; (7) an operations plan that describes the kind of facilities, site location, space, capital equipment, and labor force (part and/or full time and wage structure) that are required to provide the company's product or service; (8) a description of the technical, managerial, and business skills and experience to be brought to the project by the management team, including a description of key management personnel and their primary duties, compensation and/or ownership, the organizational structure and placement of this proposed project within the organization, the board of directors, management assistance and training needs, and supporting professional services; (9) an implementation plan that shows the timing and interrelationships of the major events or benchmarks necessary to launch the venture and realize its objectives, including a month-by-month schedule of activities such as product development, market planning, sales programs, production and operations; (10) a description of the job creation activities and projections expected as a result of this project, including a description of the strategy that will be used to identify and hire individuals who are low-income (including those on TANF), an estimated number and description of the permanent jobs that will be created during the project period with particular emphasis on jobs for low-income individuals, the number of these jobs that have career development opportunities, the number of jobs that will be filled by individuals receiving TANF or other individuals whose income is less than 100 percent of the official poverty line, their projected annual salary, the number of self-employed and other ownership opportunities created, the specific steps to be taken by the grantee or a third party to develop and sustain self-employment after the businesses are in place, and the expected net profit of these businesses after deductions of business expenses; (11) a financial plan demonstrating and providing documentation for the economic supports underpinning the project and showing the project's potential and the timetable for financial self-sufficiency, including for both the applicant and the third party, if appropriate, profit and loss forecasts for the first three years, cash flow projections for the first three years, pro forma balance sheets for the first three years, a Sources and Use of Funds Statement for all funds available to the project, and a brief summary discussing any further capital requirements and methods or projected methods for obtaining needed resources; (12) an assessment of critical risks and assumptions relating to the industry, the venture, its personnel, the product or service market appeal, and the timing and financing of the venture; and (13) a description of other economic and non-economic benefits to the community such as development of a community's physical assets, provision of needed but currently unsupplied services or products to the community, or improvement in the living environment.

Results or Benefits Expected—30 Points

Element II: Significant and Beneficial Impact

Sub-Element (A): Quality of Jobs/Business Opportunities (10 Points)

The extent to which the application describes quantifiable results in terms of the creation of permanent, full-time jobs; the development of business opportunities; or the expansion of existing businesses. The extent to which the project demonstrates an ability to produce permanent and measurable results that will reduce the incidence of poverty in the community and lead welfare recipients from welfare dependency toward economic self-sufficiency. In developing business opportunities and self-employment for TANF recipients and other low-income individuals, the extent to which the applicant proposes, at a minimum, to provide training and support services to potential entrepreneurs including, but not limited to, technical assistance in basic business planning and management concepts, assistance in preparing a business plan and loan application, and assistance in accessing business loans. (5 Points)

The extent to which the application documents that the jobs and business opportunities to be developed for eligible participants will contribute significantly to their progress toward self-sufficiency (e.g., a description of salaries that exceed the minimum wage, plus benefits such as health insurance, child care, and career development opportunities). (5 Points)

Sub-Element (B): Community Empowerment Consideration (3 Points)

The extent to which applicants are located in areas characterized by conditions of extreme poverty and other indicators of socio-economic distress. Examples of such distress may include: a poverty rate of at least 20 percent, designation as an Empowerment Zone/Enterprise Community (EZ/EC), high levels of violence, gang activity or drug use. Applications will be reviewed and evaluated based on the extent to which they contain documentation that in response to these conditions, the applicant has been involved in the preparation and planned implementation of a comprehensive community-based strategic plan to achieve both economic and human development in an integrated manner, and they should identify how the proposed project will support the goals of that plan.

Sub-Element (C): Support for Non-custodial Parents (2 Points)

The extent to which the application includes a signed letter of agreement with the local Child Support and Enforcement (CSE) Agency for referral of eligible non-custodial parents to the proposed project. The extent to which applicants demonstrate they have entered into partnership agreements with local CSE Agencies and that they have developed and implemented innovative strategies to increase the capability of low-income parents and families, which assists them to fulfill their parental responsibilities. In addition, the extent to which such partnership agreements include referrals of identified income eligible families and non-custodial parents economically unable to provide child support to the applicant's project.

Sub-Element (D): Cooperative Partnership Agreement With the Designated Agency Responsible for the TANF Program (5 Points)

The extent to which the application includes a signed, written agreement between the applicant and the designated State or local agency responsible for administering the TANF Program. The extent to which the agreement, at a minimum, covers the specific services and activities that will be provided to the target population. Note that applications that contain such an agreement may receive the maximum five (5) points.

Note that applications that have not included a signed written agreement but document that the organization is in the process of securing a cooperative relationship with the agency responsible for administering the Temporary Assistance For Needy Families Program (TANF) (as provided for under Title IV-A of the Social Security Act) in the area served by the project may receive no more than two (2) points.

Sub-Element (E): Public/Private Partnerships and Resources (5 Points)

The extent to which the application describes any public/private partnerships, which will contribute to the implementation of the project. Where partners' contributions to the project are a vital part of the project design and work program, the extent to which the narrative describes the undertakings of the partners. The extent to which a partnership agreement specifying the roles of the partners and making a clear commitment to the fulfilling of the partnership role is included in an appendix to the application. The extent to which the application indicates a firm commitment of resources necessary (if applicable) for the successful completion of the project.

Sub-Element (F): Cost-Per-Job (5 Points)

The extent to which the application documents that during the project period the proposed project will create new, permanent jobs through business opportunities for low-income residents and that the cost-per-job will not exceed $10,000. The cost-per-job is calculated by dividing the total amount of grant funds requested by the number of jobs to be created. For example, if the amount of grant funds requested is $500,000 and the number of jobs to be created is 100, the cost-per-job would be $5,000. In making calculations of cost-per-job, only jobs filled by low-income project participants may be counted.

Note that the maximum number of points will be given only to those applicants proposing cost-per-job created estimates of $10,000 or less of JOLI requested funds. OCS will not recognize job equivalents nor job counts based on economic multiplier functions; jobs must be specifically identified.

Organizational Profiles—10 Points

Element III: Agency's Experience and Commitment in Program Area

The extent to which the applicant cites their organization's capability and relevant experience in developing and operating programs that deal with poverty problems similar to those to be addressed by the proposed project; demonstrates their organization's experience in collaborative programming and operations that involve evaluations and data collection; and identifies the organization's executive leadership and briefly describes their involvement in the proposed project and provides assurance of their commitment to its successful implementation. (6 Points.)

The extent to which the application includes documentation that briefly summarizes two similar projects undertaken by the applicant agency and the extent to which the stated and achieved performance targets, including permanent benefits to low-income populations, have been achieved. The application should note and justify the priority that this project will have within the agency, including the facilities and resources that it has available to carry it out. (4 Points)

Note that the maximum number of points will be given only to those organizations with a demonstrated record of achievement in promoting job creation and enterprise opportunities for low-income people.

Staff and Position Data—10 Points

Element IV: Staff Skills, Resources and Responsibilities

The extent to which the application identifies the individuals who will have the key responsibilities for managing the project, coordinating services and activities for participants and partners, and achieving performance targets. The focus should be on the qualifications, experience, capacity, and commitment to the program of the executive officials of the organization and the key staff persons who will administer and implement the project. The person identified as project director should have supervisory experience, experience in finance and business, and experience with the target population. Because this is a new project within an already-established agency, OCS expects that the key staff person(s) will be identified, if not hired, or that an estimated hiring time line for each individual will be provided. (5 Points)

The extent to which the application includes a resume of the third party evaluator, if identified or hired, or the minimum qualifications and position description for the third party evaluator, who must be a person with recognized evaluation skills who is organizationally distinct from and not under the control of the applicant. (See Element V: Project Evaluation, below, for a fuller discussion of evaluator qualifications.) (3 Points)

The extent to which the application includes the resumes or position descriptions of key staff in an appendix to the application. (2 Points)

Evaluation—10 Points

Element V: Project Evaluation

The extent to which the application includes a well thought through outline of an Evaluation Plan for the project over the full 3-year project period that explains how the applicant proposes to answer the key questions about the efficacy of the project such as (1) whether the project activities or interventions achieve the expected immediate outcomes; (2) why or why not (the process evaluation); (3) whether and to what extent the project achieved its stated goals; and (4) why or why not (the outcome evaluation). Together the process and outcome evaluations should answer the question: “What did this program accomplish and why did it work/not work?” (3 Points)

The extent to which the outline of the Evaluation Plan is consistent with the proposed project's design including: clearly identifying the key project assumptions about the target population and their needs; describing the proposed project activities, or interventions, that will address those needs in ways that will lead to the achievement of the project goals of self-sufficiency; and identifying in advance the most important process and outcome measures that will be used to identify performance success and expected changes in individual participants, the grantee organization and the community. (3 Points)

The extent to which the outline of the Evaluation Plan identifies the principal cause-and-effect relationships to be tested, demonstrates the applicant's understanding of the role and purpose of both process and outcome evaluations, and provides for prompt reporting, concurrently with the semi-annual program progress reports, of lessons learned during the course of the project. (2 Points)

The extent to which the outline of the Evaluation Plan cites the identity and qualifications of the proposed independent third party evaluator (i.e., a person or organization with recognized evaluation skills, that will be organizationally distinct from and not under the control of the applicant, and whose qualifications include successful experience in evaluating social service delivery programs and the planning and/or evaluation of programs designed to foster self-sufficiency in low-income populations). (2 Points)

Budget and Budget Justification—5 Points

Element VI: Budget Appropriateness and Reasonableness

The extent to which the application contains a detailed budget breakdown and a budget narrative, or explanatory budget information for each of the budget categories in the SF-424A, that presents a project period and requested amount that is commensurate with the level of effort necessary to accomplish the goals and objectives of the project, that presents an estimated cost to the government for the project that is reasonable in relation to the project's duration and to the anticipated results; and that includes a reasonable administrative cost for the project. (3 Points)

The extent to which the application demonstrates a firm commitment of resources (if applicable) to accomplish project purposes within the proposed time frame. (1 Point)

The extent to which the application budget include funds for travel by project directors and chief evaluators to attend two national evaluation workshops in Washington, DC. (1 Point)

2. Review and Selection Process: No grant award will be made under this announcement on the basis of an incomplete application.

OCS Evaluation of Applications

Applications that pass the initial OCS screening will be reviewed and rated by a panel based on the program elements and review criteria presented in relevant sections of this program announcement.

The review criteria are designed to enable the review panel to assess the quality of a proposed project and determine the likelihood of its success. The criteria are closely related to each other and are considered as a whole in judging the overall quality of an application. The review panel awards points only to applications that are responsive to the program elements and relevant review criteria within the context of this program announcement.

The OCS Director and program staff will use the reviewer scores when considering competing applications. Reviewer scores will weigh heavily in funding decisions, but they will not be the only factors considered.

Priority will be given to applicants proposing to serve those areas containing the highest percentage of individuals receiving TANF under a State program, which is funded under Part A of Title IV of the Social Security Act and individuals whose income level does not exceed 100 percent of the official poverty line. Annual revisions of these poverty guidelines are normally published in the Federal Register in February or early March. Grantees will be required to apply the most recent guidelines throughout the project period. These revised guidelines also may be obtained at public libraries; Congressional offices; by writing the Superintendent of Documents, U.S. Government Printing Office, Washington, DC 20402; or by accessing the following Web site: (http://aspe.os.dhhs.gov/poverty/index.shtml).

Since ACF will be using non-Federal reviewers in the process, applicants have the option of omitting from the application copies (not the original) specific salary rates or amounts for individuals specified in the application budget and Social Security Numbers, if otherwise required for individuals. The copies may include summary salary information.

Approved but Unfunded Applications

Applications that are approved but unfunded may be held over for funding in the next funding cycle, pending the availability of funds, for a period not to exceed one year.

VI. Award Administration Information

1. Award Notices: The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements: Direct Federal grants, sub-award funds, or contracts under this JOLI Program shall not be used to support inherently religious activities such as religious instruction, worship, or proselytization. Therefore, organizations must take steps to separate, in time or location, their inherently religious activities from the services funded under this Program. Regulations pertaining to the Equal Treatment for Faith-based Organizations, which includes the prohibition against Federal funding of inherently religious activities, can be found at either 45 CFR 87.1 or the HHS Web site at http://www.os.dhhs.gov/fbci/waisgate21.pdf.

45 CFR Part 74 or 45 CFR Part 92

Grantees are subject to the requirements in 45 CFR Part 74 (non-governmental) or 45 CFR Part 92 (governmental).

3. Reporting Requirements: Grantees will be required to submit program progress and financial reports (SF-269 found at http://www.acf.hhs.gov/programs/ofs/forms.htm) throughout the project period. Program progress and financial reports are due 30 days after the reporting period. Final programmatic and financial reports are due 90 days after the close of the project period.

Program Progress Reports: Semi-Annually.

Financial Reports: Semi-Annually.

The semi-annual program progress reports include a description of the grantee's major activities and accomplishments for the reporting period, any problems, significant findings and events, dissemination activities, and any activities the grantee may have planned for the next reporting period.

VII. Agency Contacts

Program Office Contact: Thom Campbell, Office of Community Services, Administration for Children and Families, OCS Operations Center, 1515 Wilson Blvd., Suite 100, Arlington, VA 22209, Phone: 800-281-9519, E-mail: ocsgrants@acf.hhs.gov.

Grants Management Office Contact: Barbara Ziegler-Johnson, Office of Grants Management, Administration for Children and Families, OCS Operations Center, 1515 Wilson Blvd., Suite 100, Arlington, VA 22209, Phone: 800-281-9519, E-mail: ocsgrants@acf.hhs.gov.

VIII. Other Information

Notice: Beginning with FY 2005, the Administration for Children and Families (ACF) will no longer publish grant announcements in the Federal Register. Beginning October 1, 2005, applicants will be able to find a synopsis of all ACF grant opportunities and apply electronically for opportunities via: http://www.Grants.gov. Applicants will also be able to find the complete text at http://www.acf.hhs.gov/grants/index.html.

Please reference Section IV.3 for details about acknowledgement of received applications.

Dated: July 13, 2005.
Josephine B. Robinson,
Director, Office of Community Services.

[FR Doc. 05-14193 Filed 7-19-05; 8:45 am]

BILLING CODE 4184-01-P